DEPARTMENT OF DEFENSE

Department of the Army, Corps of Engineers

Arlington National Cemetery Southern Expansion Project and Associated Roadway Realignment, NEPA Scoping Meeting and Public Comment Period

AGENCY: Department of the Army, U.S. Army Corps of Engineers, DoD.

ACTION: NEPA scoping meeting and public comment period.

SUMMARY: Pursuant to the requirements of the National Environmental Policy Act of 1969, as amended (NEPA), 42 U.S.C. 4321-4370, as implemented by the Council on Environmental Quality Regulations (40 CFR parts 1500-1508), the U.S. Army Corps of Engineers (USACE), on behalf of the Arlington National Cemetery (ANC), plans to prepare an Environmental Assessment (EA) to evaluate environmental impacts from reasonable project alternatives and to determine the potential for significant impacts related to the proposed ANC Southern Expansion Project and Associated Roadway Realignment. If the ANC and the USACE determine that there is a potential for a significant environmental impact, the USACE will issue a Notice of Intent to prepare an Environmental Impact Statement (EIS) in the Federal Register.

DATES: Scoping comments may be submitted until May 31, 2016.

ADDRESSES: The public is invited to submit NEPA scoping comments to Ms. Kathy Perdue, Department of the Army, U.S. Army Corps of Engineers, Norfolk District, Planning and Policy Branch, 803 Front St., Norfolk, VA 23510 or via email: SouthernExpansion@usace.army.mil. The Project title and the commenter's contact information should be included with submitted comments.

FOR FURTHER INFORMATION CONTACT: Ms. Kathy Perdue, (757) 201-7218.

SUPPLEMENTARY INFORMATION: The ANC is the lead federal agency for this Project, and the USACE is preparing the NEPA documents on its behalf, assisted by the HNTB Corporation. The Federal Highway Administration (FHWA), the Environmental Protection Agency (EPA), the National Capital Planning Commission (NCPC), the Virginia Department of Transportation (VDOT), and Arlington County will serve as cooperating agencies during the NEPA process. The ANC and the USACE will also consider the input of various stakeholder organizations and the public.

ANC is located within the eastern boundary of Arlington County, in the northeastern corner of the Commonwealth of Virginia, and at the western terminus of Memorial Avenue, directly across the Arlington Memorial Bridge and the Potomac River from the District of Columbia (Washington DC). ANC is a 624-acre national military shrine that is the final resting place for over 400,000 active duty service members, veterans, and their families. The proposed Southern Expansion site, approximately 37 acres in size, encompasses four parcels of land, including the former Navy Annex site. The parcels are bounded on the south by Interstate 395 (I-395), on the north by Southgate Road, on the west by the Foxcroft Heights neighborhood and the VDOT Maintenance Yard, and on the east by Washington Boulevard (Route 27).

The EA will evaluate reasonable alternatives and potential impacts of the Southern Expansion Project and associated roadway realignments and land exchange agreement. The objectives (purpose) for the proposed action are:

• To create an expansion area contiguous with the ANC through the replacement of Southgate Road with a new South Nash Street and realignment of Columbia Pike and the Columbia Pike/Washington Boulevard interchange (adjacent to the Pentagon);

• To maximize the number of burial plots for first interments and inurnments;

• To reconfigure the roadways to support the short- and long-term multimodal transportation system needs and goals for the Commonwealth of Virginia and Arlington County;

• To maintain access to the Air Force Memorial and to create public access for the proposed 9/11 Pentagon Memorial Visitor Education Center; and

• To identify environmental and cultural resources in the Project area and potential impacts to those resources from the Project.

Scoping/Public Involvement. The public NEPA scoping meeting will be held on April 27, 2016, from 5 p.m.-9 p.m., at the Sheraton Pentagon City Hotel, 900 S. Orme Street, Arlington, VA 22204. Federal, state, and local agencies, Indian tribes, and the public are invited to provide scoping comments to identify issues and potentially significant effects to be considered in the analysis.

Brenda S. Bowen,
Army Federal Register Liaison Officer.

[FR Doc. 2016-09053 Filed 4-19-16; 8:45 am]

BILLING CODE 3720-58-P